DEPARTMENT OF HEALTH AND HUMAN SERVICES

National Institutes of Health

Proposed Collection; 60-Day Comment Request; A Generic Submission for Formative Research, Pretesting and Customer Satisfaction of NIH Communication and Education Resources (OD/OER)

AGENCY: National Institutes of Health, HHS.

ACTION: Notice.

SUMMARY: In compliance with the requirement of the Paperwork Reduction Act of 1995 to provide opportunity for public comment on proposed data collection projects, the National Institutes of Health will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Ms. Mikia P. Currie, Chief, Project Clearance Branch (PCB), Office of Policy for Extramural Research Administration, 6705 Rockledge Drive, Suite 803-B, Bethesda, Maryland, 20892 or call non-toll-free number (301) 435-0941 or Email your request, including your address to: curriem@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: A Generic Submission for Formative Research, Pretesting and Customer Satisfaction of NIH's Communication and Education Resources (OD/OER), 0925-0046, Expiration Date 2/28/2026, EXTENSION, National Institutes of Health (NIH).

Need and Use of Information Collection: This information collection request is to approve the Generic Submission for Formative Research, Pretesting and Customer Satisfaction of NIH's Communication and Education Resources for three years. Mandates from Congress to disseminate information on cancer research, detection, prevention, and treatment, NIH develops a wide variety of messages and materials. Testing these messages and materials assesses their potential effectiveness in reaching and communicating with their intended audience while they are still in the developmental stage and can be revised. The formative research and pretesting process thus contributes to maximizing NIH's limited dollar resources for information dissemination and education. NIH also must ensure the relevance, utility, and appropriateness of the many educational programs and products that the Agency produces. Customer satisfaction studies help NIH identify modifications necessary to meet the needs of agency's various target audiences. Approval is requested for the conduct of multiple studies annually using such methods as interviews, focus groups, and various types of surveys. The content, timing, and number of respondents to be included in each sub-study will vary, depending on the nature of the message/material/program being assessed, the methodology selected, and the target audiences.

OMB approval is requested for 3 years. There are no costs to respondents other than their time. The total estimated annualized burden hours are 13,500.

Estimated Annualized Burden Hours
Form name | Type of respondents | Number of respondents | Number of responses per respondent | Average time per response (in hours) | Total annual burden hours
Focus Groups, Individual In-Depth Interviews, Brief Interviews, Surveys, Website Usability Testing | Individuals (General Public) | 9,000 | 1 | 45/60 | 6,750
Focus Groups, Individual In-Depth Interviews, Brief Interviews, Surveys, Website Usability Testing | Individuals (Health Care Professionals) | 9,000 | 1 | 45/60 | 6,750
Totals |  |  | 18,000 |  | 13,500

Michelle Bulls,
Director, Office of Policy for Extramural Research Administration, OER, National Institutes of Health.

[FR Doc. 2025-22766 Filed 12-12-25; 8:45 am]

BILLING CODE 4140-01-P